ENVIRONMENTAL PROTECTION AGENCY

[FRL-6921-7]

Agency Information Collection Activities: Proposed Collection; Comment Request; See List of ICRs Planned To Be Submitted in Section A

AGENCY: Environmental Protection Agency (EPA).

ACTION: Notice.

SUMMARY: In compliance with the Paperwork Reduction Act (44 U.S.C. 3501 et seq.), this document announces that EPA is planning to submit the following two continuing Information Collection Requests (ICR) to the Office of Management and Budget (OMB). Before submitting the ICRs to OMB for review and approval, EPA is soliciting comments on specific aspects of the information collections as described at the beginning of Supplementary Information.

DATES: Comments must be submitted on or before February 20, 2001.

ADDRESSES: U.S. Environmental Protection Agency, 1200 Pennsylvania Avenue, NW., Mail Code 2223A, Washington, DC 20460. A hard copy of an ICR may be obtained without charge by calling the identified information contact individual for each ICR in Section B of the Supplementary Information.

FOR FURTHER INFORMATION CONTACT: For specific information on the individual ICRs see Section B of the Supplementary Information.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

A. List of ICRs Planned To Be Submitted

In compliance with the Paperwork Reduction Act (44 U.S.C. 3501 et seq.), this notice announces that EPA is planning to submit the following two continuing Information Collection Requests (ICR) to the Office of Management and Budget (OMB):

(1) NSPS Subpart Ka—Standards of Performance for Storage Vessels for Petroleum Liquids for Which Construction, Reconstruction, or Modification Commenced After May 18, 1978 and Prior to July 23, 1984, EPA ICR Number 1050.07 and OMB Control Number 2060-0121 expiring on June 30, 2001.

(2) NSPS Subpart Kb—Standards of Performance for Volatile Organic Liquid Storage Vessels (Including Petroleum Liquid Storage Vessels) for Which Construction, Reconstruction, or Modification Commenced After July 23, 1984, EPA ICR 1132.05, and OMB Control Number 2060-0074 expiring on February 28, 2001.

B. Contact Individuals for ICRs

(1) NSPS Subpart Ka—Standards of Performance for Storage Vessels for Petroleum Liquids for Which Construction, Reconstruction, or Modification Commenced After May 18, 1978 and Prior to July 23, 1984, Everett Bishop, tele: 202-564-7032; fax: 202-564-0050 or email: bishop.everett@epa.gov. EPA ICR Number 1050.07 and OMB Control Number 2060-0121 expiring on June 30, 2001;

(2) NSPS Subpart Kb—Standards of Performance for Volatile Organic Liquid Storage Vessels (Including Petroleum Liquid Storage Vessels) for Which Construction, Reconstruction, or Modification Commenced After July 23, 1984. Everett Bishop, tele: 202-564-7032; fax: 202-564-0050 or email: bishop.everett@epa.gov. EPA ICR 1132.05, and OMB Control Number 2060-0074 expiring on February 28, 2001

C. Individual ICRs

(1) NSPS Subpart Ka—Standards of Performance for Storage Vessels for Petroleum Liquids for Which Construction, Reconstruction, or Modification Commenced After May 18, 1978 and Prior to July 23, 1984, Everett Bishop, tele: 202-564-7032; fax: 202-564-0050 or email: bishop.everett@epa.gov. EPA ICR Number 1050.07 and OMB Control Number 2060-0121 expiring on June 30, 2001

Affected Entities: Entities potentially affected by this action are storage vessels of petroleum liquids which have a storage capacity greater than 151,416 liters (40,000 gallons) and for which construction is commenced after May 18, 1978.

Abstract: Volatile Organic Compounds (VOCs) from storage vessels cause or contribute to air pollution that may reasonably be anticipated to endanger public health. VOC emissions are the result of evaporation of volatile organic liquids contained in the storage vessels. The control of VOCs requires not only the installation of properly designed equipment, but also the maintenance and operation of that equipment. Information generated by the recordkeeping and reporting requirements is used by the Agency to ensure that facilities affected by this NSPS continue to operate the control equipment properly, thereby minimizing VOCs emissions into the atmosphere. Collection of this information is authorized at 40 CFR § 60.7 and § 60.110a. Any information submitted to the Agency, for which a claim of confidentiality is made, will be safeguarded according to the Agency policies set forth in Title 40, Chapter 1, Part 2, Subpart B—Confidentiality of Business Information (see 40 CFR 2: 41 FR 36902, September 1, 1976; amended by 43 FR 40000, September 8, 1978; 43 FR 42251, September 20, 1978; 44 FR 17674, March 23, 1979). An agency may not conduct or sponsor, and a person is not required to respond to, a collection of information unless it displays a currently valid OMB control number. The OMB control numbers for EPA's regulations are listed in 40 CFR part 9 and 48 CFR Chapter 15.

Burden Statement: The projected burden cost to each owner and operator is approximately $3,600 and 125 hours/year. The burden hours are identified as: 100 hours for secondary seal gap measurement, 20 hours for primary seal gap measurement and 5 hours for recording fill/refill information. It is estimated this information collection, recordkeeping and recording will affect approximately 183 owners and operators of petroleum storage vessels. Since there are no new facilities proposed under this NSPS, there is no capital or start-up cost component.

(2) NSPS Subpart Kb—Standards of Performance for Volatile Organic Liquid Storage Vessels (Including Petroleum Liquid Storage Vessels) for Which Construction, Reconstruction, or Modification Commenced After July 23, 1984. Everett Bishop, tele: 202-564-7032; fax: 202-564-0050 or email: bishop.everett@epa.gov. EPA ICR 1132.05, and OMB Control Number 2060-0074 expiring on February 28, 2001.

Affected entities: Entities potentially affected by this action are storage vessels with a capacity greater than or equal to 40 cubic meters that store volatile organic liquids (VOL's) for which construction, reconstruction, or modification is commenced after July 23, 1984.

Abstract: The notification of construction, reconstruction or modification indicates when a storage vessel becomes subject to the standards. The information generated by the inspecting, recordkeeping and reporting requirements is used by the Agency to ensure that the storage vessel affected by the NSPS continues to operate the control equipment in a manner that helps achieve compliance with the NSPS.

Information is recorded in sufficient detail to enable owners or operators to demonstrate the means of complying with the applicable standards. Under this standard, the data collected by the affected owner/operator is retained at the facility for a minimum of two years and made available to the Administrator either on request or by inspection.

The information generated by the recordkeeping and reporting requirements are used by the Agency to ensure that facilities affected by the NSPS continue to operate in compliance with the NSPS.

The information collected from the recordkeeping and reporting requirements is also used for targeting inspections, and is of sufficient quality to be used as evidence in court. Collection of this information is authorized at 40 CFR 60.7 and 60.110b. Any information submitted to the Agency, for which a claim of confidentiality is made, will be safeguarded according to the Agency policies set forth in Title 40, Chapter 1, Part 2, Subpart B—Confidentiality of Business Information (see 40 CFR § 2: 41 FR 36902, September 1, 1976; amended by 43 FR 40000, September 8, 1978; 43 FR 42251, September 20, 1978; 44 FR 17674, March 23, 1979). An agency may not conduct or sponsor, and a person is not required to respond to, a collection of information unless it displays a currently valid OMB control number. The OMB control numbers for EPA's regulations are listed in 40 CFR part 9 and 48 CFR Chapter 15.

Burden: For each respondent, it is estimated 139 hours are devoted to recording information and inspecting storage vessels subject to this NSPS. The frequency of reporting is approxiamately twice a year. The estimated number of respondents is 900. The estimated yearly cost per respondent for operations and maintenance is $4,907. The average initial capital cost is $20,000 for emission control devices, i.e., internal or external floating roof or closed vent system.

Dated: December 13, 2000.
Michael Stahl,
Acting Director, Office of Compliance, Office of Enforcement and Compliance Assurance.

[FR Doc. 00-32669 Filed 12-21-00; 8:45 am]

BILLING CODE 6560-50-P